DEPARTMENT OF THE INTERIOR

National Park Service

Notice of Intent to Repatriate a Cultural Item: Taylor Museum of the Colorado Springs Fine Arts Center, Colorado Springs, CO

AGENCY: National Park Service, Interior.

ACTION: Notice.

Notice is here given in accordance with the Native American Graves Protection and Repatriation Act (NAGPRA), 25 U.S.C. 3005, of the intent to repatriate a cultural item in the possession of the Taylor Museum of the Colorado Springs Fine Arts Center, Colorado Springs, CO, that meets the definition of object of cultural patrimony under 25 U.S.C. 3001.

This notice is published as part of the National Park Service's administrative responsibilities under NAGPRA, 25 U.S.C. 3003(d)(3). The determinations in this notice are the sole responsibility of the museum, institution, or Federal agency that has control of the cultural items. The National Park Service is not responsible for the determinations in this notice.

In 1951, the Taylor Museum purchased a Northwest Coast totem pole (TM 3991) from Ralph C. Altman/Lumber Yard of Joshua Marks, Los Angeles, CA. The piece was officially accessioned into the museum's collection on May 7, 1951.

The totem pole, dated circa 1870, is from the Haida village of Old Kasaan, Prince of Wales Island, southeastern Alaska. The totem pole originally stood in front of a house, and both were used by Chief Son-i-hat, “Southeast Wind,” of the Eagle phratry and one of the great chiefs of Old Kasaan. The house was named Adolescent Girl House. Chief Son-i-Hat also had a home not far from present-day Kasaan, which is currently the only remaining traditional Haida longhouse in Alaska.

The pole was bought by a man from Los Angeles around 1908. The pole and house were taken to Los Angeles, and the dismantled house was rebuilt on a smaller scale. Chief Son-i-hat, who took along dancing paraphernalia, also accompanied the house and pole. Chief Son-i-hat stayed about two years, and according to his son, staged dances and gave speeches about the ways of his fellow Haida people. When the Taylor Museum of the Colorado Springs Fine Arts Center acquired the pole, it was laying in a lumber yard ready to be sawed up for wood pulp.

In approximately early 2007, the museum began researching the pole and started consultations with tribal representatives from the Organized Village of Kasaan. Totem poles in the Haida culture represent clans, serve as grave markers, and also relate important events. According to representatives of the Organized Village of Kasaan, the totem pole is clan property. A totem pole is not property owned by an individual, and no single individual can alienate or convey this clan property. Furthermore, the totem pole was clan property at the time of its alienation, and ownership of the totem pole and crest designs depicted are owned by the clan, Yaadas of Gasa'aan (Old Kasaan). Therefore, the totem pole is an object of cultural patrimony under NAGPRA.

Officials of the Taylor Museum of the Colorado Springs Fine Arts Center have determined that, pursuant to 25 U.S.C. 300(3)(D), the one cultural item described above has ongoing historical, traditional, or cultural importance central to the Native American group or culture itself, rather than property owned by an individual. Officials of the Taylor Museum of the Colorado Springs Fine Arts Center also have determined that, pursuant to 25 U.S.C. 3001(2), there is a relationship of shared group identity that can be reasonably traced between the object of cultural patrimony and the Organized Village of Kasaan

Representatives of any other Indian tribe that believes itself to be culturally affiliated with the object of cultural patrimony should contact Tariana Navas-Nieves, Curator of Hispanic and Native American Art, Taylor Museum of the Colorado Springs Fine Arts Center, 30 West Dale St., Colorado Springs, CO 80903, telephone (719) 477-4334, before September 2, 2010. Repatriation of the object of cultural patrimony to the Organized Village of Kasaan may proceed after that date if no additional claimants come forward.

The Taylor Museum of the Colorado Springs Fine Arts Center is responsible for notifying the Organized Village of Kasaan that this notice has been published.

Dated: July 26, 2010
Sherry Hutt,
Manager, National NAGPRA Program.

[FR Doc. 2010-18997 Filed 8-2-10; 8:45 am]

BILLING CODE 4312-50-S